DEPARTMENT OF ENERGY

Federal Energy Regulatory Commission

[Project No. 15020-000]

Gridflex Energy, LLC; Notice of Preliminary Permit Application Accepted for Filing and Soliciting Comments, Motions To Intervene, and Competing Applications

On January 6, 2020, Gridflex Energy, LLC (Gridflex) filed an application for a preliminary permit, pursuant to section 4(f) of the Federal Power Act (FPA), proposing to study the feasibility of the Eldorado Pumped Storage Project to be located in Clark County, Nevada. Gridflex subsequently amended its application on January 10, 2020. The sole purpose of a preliminary permit, if issued, is to grant the permit holder priority to file a license application during the permit term. A preliminary permit does not authorize the permit holder to perform any land-disturbing activities or otherwise enter upon lands or waters owned by others without the owners' express permission.

The proposed project would consist of the following: (1) An upper reservoir having a total storage capacity of 5,500 acre feet at elevation of 3,520 feet mean sea level (msl), and a surface area of 104 acres; (2) two upper reservoir dams, the first dam would be 110-foot-high and the second would be 60-foot-high, each upper reservoir dam would have a crest length of 1,100 feet; (3) a lower reservoir having a total storage capacity of 5,500 acre feet at elevation of 2,100 msl and a surface area of 102 acres (Alternative A) or a lower reservoir having a total storage capacity of 5,500 acre feet at elevation of 2,420 msl and a surface area of 95 acres (Alternative B); (4) a lower reservoir dam with a maximum height of 55 feet and a crest length of 8,720 feet (Alternative A) or a lower reservoir dam with a maximum height of 120 feet and having a crest length of 5,600 feet (Alternative B); (5) a 1,300-foot-long, 22-foot-diameter vertical power shaft, a 5,000-foot-long, 22-foot-diameter headrace tunnel, and a 7,000-foot-long, 25-foot-diameter tailrace tunnel (Alternative A) or a 1,000-foot-long, 19-foot-diameter vertical power shaft, a 4,000-foot-long, 19-foot-diameter headrace tunnel, and a 5,000-foot-long, 22-foot-diameter tailrace tunnel (Alternative B); (6) an underground 400-foot-long, 80-foot-wide, 120-foot-high, underground powerhouse (Alternative A) or a 350-foot-long, 80-foot-wide, 120-foot-high, underground powerhouse (Alternative B); (7) three 250-Megawatt (MW) variable speed reversible pump turbines and motor-generators (Alternative A) or three 200-Megawatt (MW) variable speed reversible pump turbines and motor-generators (Alternative B), with a 1,420-feet or 1,100-feet of operating head, respectively; (8) a new twin circuit 230 kilovolt (kV), 5.5-mile-long transmission line with an interconnection at the Eldorado Substation near Boulder City, Nevada; and (9) appurtenant facilities. The applicant is considering multiple sources of water for the initial fill and makeup water including the Southern Nevada Water Authority. The estimated annual generation of the Project would be 1,314,000 Megawatt-hours MWh (Alternative A) or 1,051,200 MWh (Alternative B).

Applicant Contact: Mr. Matthew Shapiro, CEO, Gridflex Energy, LLC, 424 W Pueblo St., #A, Boise, ID 83702; (208) 246-9925.

FERC Contact: Benjamin Mann; Email: benjamin.mann@ferc.gov; phone: (202) 502-8127.

Deadline for filing comments, motions to intervene, competing applications (without notices of intent), or notices of intent to file competing applications: Sixty (60) days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15020-000.

More information about this project, including a copy of the application, can be viewed or printed on the eLibrary link of Commission's website at http://www.ferc.gov/docs-filing/elibrary.asp. Enter the docket number (P-15020) in the docket number field to access the document. For assistance, contact FERC Online Support.

Dated: January 24, 2020.
Kimberly D. Bose,
Secretary.

[FR Doc. 2020-01691 Filed 1-29-20; 8:45 am]

BILLING CODE 6717-01-P